DEPARTMENT OF ENERGY

Federal Energy Regulatory Commission

[Docket No. ER02-1764-000, et al.]

Southern California Edison Company, et al.; Electric Rate and Corporate Regulation Filings

May 15, 2002.

The following filings have been made with the Commission. The filings are listed in ascending order within each docket classification.

1. Southern California Edison Company

[Docket No. ER02-1764-000]

Take notice that on May 8, 2002, Southern California Edison Company (SCE) tendered for filing a Service Agreement For Wholesale Distribution Service under SCE's Wholesale Distribution Access Tariff and an Interconnection Facilities Agreement (Agreements) between SCE and Cabazon Wind Partners, LLC (Cabazon).

SCE respectfully requests the Agreements become effective on May 9, 2002. These Agreements specify the terms and conditions under which SCE will interconnect Cabazon's generating facility to its electrical system and provide Distribution Service for up to 42.6 MW of power produced by the generating facility.

Copies of this filing were served upon the Public Utilities Commission of the State of California and Cabazon.

Comment Date: May 29, 2002.

2. Entergy Services, Inc.

[Docket No. ER02-1765-000]

Take notice that on May 8, 2002, Entergy Services, Inc., on behalf of Entergy Arkansas, Inc., Entergy Gulf States, Inc., Entergy Louisiana, Inc., Entergy Mississippi, Inc., and Entergy New Orleans, Inc., (collectively, the Entergy Operating Companies) tendered for filing a Long-Term Firm Point-To-Point Transmission Service Agreement between Entergy Services, Inc., as agent for the Entergy Operating Companies, and Mirant Americas Energy Marketing, LP.

Comment Date: May 29, 2002.

3. Pacific Gas and Electric Company

[Docket No. ER02-1766-000]

Take notice that on May 8, 2002, Pacific Gas and Electric Company (PG&E) tendered for filing, as a change in rate schedule, a revised Appendix A to “Contract No. 88-SAO-40002, United States Department of Energy, Western Area Power Administration, Central Valley Project, California for Sonoma County Water Agency, Contract for Transmission Service with Pacific Gas and Electric Company” (Sonoma Agreement). The Sonoma Agreement, dated March 21, 1989, was accepted with its appendices for filing by the Commission on April 28, 1989, and designated as PG&E Rate Schedule FERC No. 126, and subsequently designated on November 7, 2001, as PG&E First Revised Rate Schedule FERC No. 126 . The revised Appendix A to the Sonoma Agreement eliminates the distribution component of the transmission charge due to an upgrade to Sonoma's distribution system, updating loss factors and providing a reduced transmission rate.

PG&E is requesting certain waivers. Copies of this filing were served upon Sonoma, Western, the California Independent System Operator and the California Public Utilities Commission.

Comment Date: May 29, 2002.

4. Midwest Independent Transmission System Operator, Inc.

[FERC Docket No. ER02-1767-000]

Take notice that on May 8, 2002, the Midwest Independent Transmission System Operator, Inc. (the Midwest ISO) tendered for filing proposed revisions to Attachment K of its Open Access Transmission Tariff (OATT), FERC Electric Tariff, First Revised Volume No. 1, which seek to modify the manner in which (I) the Midwest ISO institutes the redispatch of generation on the Midwest ISO Transmission System (Transmission System) in order to maintain the reliability of the Transmission System and (ii) the costs of the aforementioned reliability redispatch are allocated to and among transmission customers. The Midwest ISO requests an effective date of June 17, 2002.

The Midwest ISO has electronically served copies of its filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading Filings to FERC” for other interested parties in this matter.

Comment Date: May 30, 2002.

5. Aquila, Inc.

[Docket No. ES02-38-000]

Take notice that on May 7, 2002, Aquila, Inc. submitted an application pursuant to section 204 of the Federal Power Act seeking authorization to issue up to an aggregate of $1 billion of the following securities: (1) Long-term debt (and any like instruments issued in exchange therefore or in refinancing thereof) with a final maturity or maturities of not less than twelve months nor more than 30 years; (2) common stock including shares which may be issued upon conversion of other securities; and (3) forward contracts or other financial instruments and associated common stock to be issued at a future date specified in the forward contract.

Comment Date: May 31, 2002.

6. NorthWestern Corporation

[Docket No. ES02-39-000]

Take notice that on May 8, 2002, NorthWestern Corporation (NorthWestern) submitted an application pursuant to section 204 of the Federal Power Act seeking authorization to issue up to and including (1) 15 million shares of common stock, par value $1.75 per share, (2) 500,000 shares of cumulative preferred stock, par value $100 per share, and (3) 500,000 shares of preference stock, par value $50.

NorthWestern also requests waiver of the competitive bidding and negotiated placement requirements at 18 CFR 34.2.

Comment Date: June 5, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-12740 Filed 5-21-02; 8:45 am]

BILLING CODE 6717-01-P